DEPARTMENT OF AGRICULTURE

Commodity Credit Corporation

Sunshine Act Meeting: CCC Board Meeting; Correction

AGENCY: Commodity Credit Corporation, USDA.

ACTION: Sunshine Act meeting correction.

SUMMARY: In Federal Register document 65-FR-192 beginning on page 58983-58984 in the issue of Tuesday, October 3, 2000, make the following correction:

The CCC Board Meeting scheduled for October 10, 2000, at 2 p.m., in Room 104-A, Jamie L. Whitten Building has been canceled. The meeting will be rescheduled at a later date.

Dated: October 4, 2000.
Juanita B. Daniels,
Acting Secretary, Commodity Credit Corporation.

[FR Doc. 00-26037 Filed 10-5-00; 12:52 pm]

BILLING CODE 3410-05-P